DEPARTMENT OF ENERGY

Federal Energy Regulatory Commission

[Docket No. TM99-6-29-003]

Transcontinental Gas Pipe Line Corporation; Notice of Compliance Filing

December 7, 2000.

Take notice that on November 29, 2000, Transcontinental Gas Pipe Line Corporation (Transco) tendered for filing as part of its FERC Gas Tariff, Third Revised Volume No. 1 Substitute Eleventh Revised Sheet No. 29 and Substitute Twelfth Revised Sheet No. 44, with a proposed effective date of April 1, 1999.

Transco states that the instant filing is submitted in compliance with the Commission's Order On Rehearing issued October 30, 2000 in Docket No. TM99-6-29-001 (October 30 Order). In that order, the Commission authorized Transco to adjust its fuel retention percentages (FRP) to include previously disallowed prior period adjustments amortized over a seven year period. In compliance with the Ordering Paragraph of the October 30 Order, Transco submits herein the tariff sheets reflecting the FRPs to be effective April 1, 1999, a detailed narrative describing Transco's amortization plan and the workpapers supporting the revised FRPs.

Transco states that it is serving copies of the instant filing to its affected customers and interested State Commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-31843 Filed 12-13-00; 8:45 am]

BILLING CODE 6717-01-M